SMALL BUSINESS ADMINISTRATION

[Disaster Declaration #11425]

Louisiana Disaster Number LA-00020

AGENCY: U.S. Small Business Administration.

ACTION: Amendment 1.

SUMMARY: This is an amendment of the Presidential declaration of a major disaster for Public Assistance Only for the State of Louisiana (FEMA-1786-DR), dated 09/02/2008.

Incident: Hurricane Gustav.

Incident Period: 09/01/2008 and continuing.

Effective Date: 09/06/2008.

Physical Loan Application Deadline Date: 11/03/2008.

Economic Injury (EIDL) Loan Application Deadline Date: 06/02/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the President's major disaster declaration for Private Non-Profit organizations in the State of Louisiana, dated 09/02/2008, is hereby amended to include the following areas as adversely affected by the disaster.

Primary Parishes:

Bienville, Bossier, Caddo, Calcasieu, Caldwell, Catahoula, Claiborne, Concordia, De Soto, East Carroll, Franklin, Grant, Jackson, La Salle, Lincoln, Madison, Morehouse, Natchitoches, Ouachita, Red River, Richland, Saint Helena, Saint Tammany, Tangipahoa, Tensas, Union, Washington, Webster, West Carroll, Winn.

Contiguous Counties: (Economic Injury Loans Only):

Arkansas: Ashley, Chicot, Columbia, Lafayette, Miller, Union.

Mississippi: Adams, Claiborne, Hancock, Issaquena, Jefferson, Marion, Pearl River, Pike, Walthal, Warren.

Texas: Cass, Harrison, Marion, Panola.

All other information in the original declaration remains unchanged.

(Catalog of Federal Domestic Assistance Numbers 59002 and 59008)

Herbert L. Mitchell,
Associate Administrator for Disaster Assistance.

[FR Doc. E8-21266 Filed 9-11-08; 8:45 am]

BILLING CODE 8025-01-P